DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410 (not toll free numbers).

SUPPLEMENTARY INFORMATION:

Electronic Availability

The Specially Designated Nationals and Blocked Persons List and additional information concerning OFAC sanctions programs are available on OFAC's Web site (www.treasury.gov/ofac).

Notice of OFAC Action(s)

On August 22, 2017, OFAC determined that the property and interests in property subject to U.S. jurisdiction of the following persons are blocked pursuant to the relevant sanctions authorities listed below.

Individuals

1. PISKLIN, Mikhail Yur'evich, Russia; DOB 01 Dec 1980; Gender Male; Passport 71 0588176 (individual) [DPRK3].

Designated pursuant to section 2(a)(i) of Executive Order 13722, “Blocking Property of the Government of North Korea and the Workers' Party of Korea, and Prohibiting Certain Transactions With Respect to North Korea” (E.O. 13722), for operating in the energy industry in the North Korean economy.

2. SERBIN, Andrey, Russia; DOB 01 Nov 1986; Gender Male (individual) [DPRK3].

Designated pursuant to section 2(a)(i) of E.O. 13722, for operating in the energy industry in the North Korean economy.

3. HUISH, Irina Igorevna, Russia; DOB 18 Jan 1973; Gender Female (individual) [DPRK3] (Linked To: VELMUR MANAGEMENT PTE LTD).

Designated pursuant to section 2(a)(viii) of E.O. 13722, for acting or purporting to act for or on behalf of, directly or indirectly, VELMUR MANAGEMENT PTE. LTD., a person whose property and interests in property are blocked pursuant to E.O. 13722.

4. CHI, Yupeng, Room 301, Unit 1, No. 129 Jiangcheng Street, Yuanbao District, Dandong City, Liaoning Province, China; DOB 22 May 1969; nationality China; Gender Male; Passport E27979708 (China); National ID No. 210602196905220510 (China); Chairman and Majority Owner, Dandong Zhicheng Metallic Material Co., Ltd. (individual) [DPRK3] (Linked To: DANDONG ZHICHENG METALLIC MATERIAL CO., LTD.).

Designated pursuant to sections 2(a)(vii) and 2(a)(viii) of E.O. 13722, for having materially assisted, sponsored, or provided financial, material, or technological support for, or goods or services to or in support of; and for having acted or purported to act for or on behalf of, directly or indirectly, DANDONG ZHICHENG METALLIC MATERIAL CO., LTD., a person whose property and interests in property are blocked pursuant to E.O. 13722.

5. KIM, Tong-chol, 34 Herbst Street, Windhoek, Namibia; DOB 07 Aug 1968; POB North Korea; Gender Male; Passport 472336944 issued 10 Sep 2012 expires 10 Sep 2017; Managing Director, Mansudae Overseas Projects; Director, Mansudae Overseas Projects Architectural and Technical Services (PTY) Ltd.; Deputy Managing Director, Qingdao Construction (Namibia) CC (individual) [DPRK3] (Linked To: MANSUDAE OVERSEAS PROJECT GROUP OF COMPANIES; Linked To: MANSUDAE OVERSEAS PROJECT ARCHITECTURAL AND TECHNICAL SERVICES (PTY) LIMITED; Linked To: QINGDAO CONSTRUCTION (NAMIBIA) CC).

Designated pursuant to sections 2(a)(vii) and 2(a)(viii) of E.O. 13722, for having materially assisted, sponsored, or provided financial, material, or technological support for, or goods or services to or in support of; or for being owned or controlled by; or for having acted or purported to act for or on behalf of, directly or indirectly, MANSUDAE OVERSEAS PROJECT GROUP OF COMPANIES, MANSUDAE OVERSEAS PROJECT GROUP ARCHITECTURAL AND TECHNICAL SERVICES (PROPRIETARY) LIMITED, and QINGDAO CONSTRUCTION (NAMIBIA) CC, persons whose property and interests in property are blocked pursuant to E.O. 13722.

6. KIRAKOSYAN, Ruben Ruslanovich, Russia; DOB 03 Mar 1980; citizen Russia; Gender Male (individual) [NPWMD] (Linked To: GEFEST-M LLC; Linked To: KOREA TANGUN TRADING CORPORATION).

Designated pursuant to sections 1(a)(iii) and 1(a)(iv) of Executive Order 13382, “Blocking Property of Weapons of Mass Destruction Proliferators and Their Supporters” (E.O. 13382) for having provided, or attempted to provide, financial, material, technological or other support for, or goods or services in support of, KOREA TANGUN TRADING CORPORATION, a person whose property and interests in property are blocked pursuant to E.O. 13382; and for acting or purporting to act for or on behalf of, directly or indirectly, GEFEST-M LLC, a person whose property and interests in property are blocked pursuant to E.O. 13382.

Entities

BILLING CODE 4810-AL-P

BILLING CODE 4810-AL-C

Designated pursuant to sections 2(a)(i) and 2(a)(ii) of E.O. 13722, for operating in the mining industry in the North Korean economy; and for having sold, supplied, transferred, or purchased, directly or indirectly, to or from North Korea or any person acting for or on behalf of the Government of North Korea or the Workers' Party of Korea, metal, graphite, coal, or software where any revenue or goods received may benefit the Government of North Korea or the Workers' Party of Korea, including North Korea's nuclear or ballistic missile programs.

6. MANSUDAE OVERSEAS PROJECTS ARCHITECTURAL AND TECHNICAL SERVICES (PTY) LIMITED, Namibia; Registration ID 2001/044 (Namibia) [DPRK3] (Linked To: MANSUDAE OVERSEAS PROJECT GROUP OF COMPANIES).

Designated pursuant to sections 2(a)(vii) and 2(a)(viii) of E.O. 13722, for having materially assisted, sponsored, or provided financial, material, or technological support for, or goods or services to or in support of; and for being owned or controlled by or having acted or purported to act for or on behalf of, directly or indirectly, MANSUDAE OVERSEAS PROJECT GROUP OF COMPANIES, a person whose property and interests in property are blocked pursuant to E.O. 13722.

7. QINGDAO CONSTRUCTION (NAMIBIA) CC, ERF 338, Platinum Street, Prosperita, Windhoek, Namibia; P.O. Box 26774, Windhoek, Namibia; Registration ID 2008/0598 (Namibia) [DPRK3] (Linked To: MANSUDAE OVERSEAS PROJECTS ARCHITECTURAL AND TECHNICAL SERVICES (PTY) LIMITED; Linked To: MANSUDAE OVERSEAS PROJECT GROUP OF COMPANIES).

Designated pursuant to section 2(a)(vii) of E.O. 13722 for having materially assisted, sponsored, or provided financial, material or technological support for, or goods or services to or in support of, MANSUDAE OVERSEAS PROJECT GROUP OF COMPANIES and MANSUDAE OVERSEAS PROJECT GROUP ARCHITECTURAL AND TECHNICAL SERVICES (PROPRIETARY) LIMITED, persons whose property and interests in property are blocked pursuant to E.O. 13722.

8. GEFEST-M LLC, Office 401, Structure 1, Building 1, Chermyanskaya Street, Moscow 127081, Russia; Office Space 5, Room 18, Building 5/7 Rozhdestvenka Street, Moscow 107031, Russia [NPWMD] (Linked To: KOREA TANGUN TRADING CORPORATION).

Designated pursuant to section 1(a)(iii) of E.O. 13382, for having provided, or attempted to provide, financial, material, technological or other support for, or goods or services in support of, KOREA TANGUN TRADING CORPORATION, a person whose property and interests in property are blocked pursuant to E.O. 13382.

9. MINGZHENG INTERNATIONAL TRADING LIMITED, Flat/RM A30 9/F, Silvercorp International Tower, 707-713 Nathan Road, Kowloon, Mong Kok, Hong Kong; 224-4 Shifa Da Lu, RM 1305, Heping District, Shenyang City, Liaoning Province, China [NPWMD] (Linked To: FOREIGN TRADE BANK OF THE DEMOCRATIC PEOPLE'S REPUBLIC OF KOREA; Linked To: SUN, Wei).

Designated pursuant to sections 1(a)(iii) and 1(a)(iv) of E.O. 13382, for having provided, or attempted to provide, financial, material, technological, or other support for, or goods or services in support of; and for acting or purporting to act for or on behalf of, directly or indirectly, FOREIGN TRADE BANK, a person whose property and interests in property are blocked pursuant to E.O. 13382; and for being owned or controlled by SUN WEI, a person whose property and interests in property are blocked pursuant to E.O. 13382.

10. DANDONG RICH EARTH TRADING CO., LTD., Jiadi Square, Number 64, Binjiang Middle Road, Room 1001, Building B, Dandong City, Liaoning, China [NPWMD] (Linked To: KOREA KUMSAN TRADING CORPORATION).

Designated pursuant to section 1(a)(iii) of E.O. 13382, for having provided, or attempted to provide, financial, material, technological, or other support for, or goods or services in support of, KOREA KUMSAN TRADING CORPORATION, a person whose property and interests in property are blocked pursuant to E.O. 13382.

Andrea M. Gacki,
Acting Director, Office of Foreign Assets Control.

[FR Doc. 2017-18042 Filed 8-24-17; 8:45 am]

BILLING CODE 4810-AL-P